NATIONAL SCIENCE FOUNDATION

OFFICE OF SCIENCE AND TECHNOLOGY POLICY

Public Listening Session on Implementing Initial Findings and Recommendations of the National Artificial Intelligence Research Resource Task Force

AGENCY: White House Office of Science and Technology Policy and National Science Foundation.

ACTION: Announcement of meeting.

SUMMARY: The Office of Science and Technology Policy and the National Science Foundation are organizing a virtual listening session to seek public input on the implementation of the initial findings and recommendations contained in the interim report of the National Artificial Intelligence Research Resource (NAIRR) Task Force (“Task Force”). The Task Force has been directed by Congress to develop an implementation roadmap for a shared research infrastructure that would provide artificial intelligence (AI) researchers and students with access to computational resources, high-quality data, training tools, and user support. Perspectives gathered during the virtual session will inform the development of the Task Force's final report, which is expected to be released in December 2022.

DATES: June 23, 2022, 1:00-3:00 p.m. EDT.

ADDRESSES: Register for the virtual listening suggestion using the following link: https://ida-org.zoomgov.com/meeting/register/vJItcO2qqjwuGalbshV1ukBtAM5EKna3M1c.

FOR FURTHER INFORMATION CONTACT: For additional information, please contact Tess deBlanc-Knowles, 202-881-7673, NAIIO@ostp.eop.gov.

SUPPLEMENTARY INFORMATION: Congress directed the National Science Foundation (NSF), in coordination with the White House Office of Science and Technology Policy (OSTP), to establish the NAIRR Task Force in the William M. (Mac) Thornberry National Defense Authorization Act for Fiscal Year 2021, 15 U.S.C. 9415, and in accordance with the provisions of the Federal Advisory Committee Act. The mandate of the Task Force is to investigate the feasibility and advisability of establishing and sustaining a NAIRR, and to propose a roadmap detailing how such a resource should be established and sustained.

The Task Force was launched on June 10, 2021, as a Federal Advisory Committee co-chaired by NSF and OSTP and composed of representatives from the U.S. Government, academia, and the private sector. Its members' expertise spans foundational, use-inspired, and trustworthy AI R&D, as well as research cyberinfrastructure including data and data privacy.

The Task Force's interim report, published on May 25, 2022, provides a general vision for the NAIRR along with a preliminary set of findings and recommendations regarding the NAIRR architecture, resources, capabilities, and users. Moving forward, the Task Force will refine its findings and recommendations for the design of the NAIRR and deliberate on remaining open questions. In doing so, the Task Force will develop a detailed roadmap and implementation plan for the NAIRR.

To inform development of this implementation plan, the Task Force is organizing this public listening session to hear from members of the public on how the recommendations put forward by the Task Force in its interim report could be responsibly and effectively implemented. Perspectives gathered during the virtual session will inform the development of the Task Force's final report, which is expected to be released in December 2022.

The meeting will be recorded for use by the Task Force. Participation in the listening session will signify consent to capture participants' names, voices, and likenesses. Anything said may be recorded and transcribed for use by the Task Force. Moderators will manage the discussion and order of remarks.

Individuals unable to attend the listening session or who would like to provide more detailed information may respond to the Request for Information (RFI) on Implementing Initial Findings and Recommendations of the National Artificial Intelligence Research Resource Task Force posted on the Federal Register.

Dated: May 19, 2022.
Suzanne H. Plimpton,
Reports Clearance Officer, National Science Foundation.
Stacy Murphy,
Operations Manager, White House Office of Science and Technology Policy.

[FR Doc. 2022-11222 Filed 5-24-22; 8:45 am]

BILLING CODE 7555-01-P